DEPARTMENT OF TRANSPORTATION

Pipeline and Hazardous Materials Safety Administration

[Docket No. PHMSA-2008-0211]

Pipeline Safety: Implementation of Revised Incident/Accident Report Forms for Distribution Systems, Gas Transmission and Gathering Systems, and Hazardous Liquid Systems

AGENCY: Pipeline and Hazardous Materials Safety Administration (PHMSA), DOT.

ACTION: Notice; Issuance of Advisory Bulletin.

SUMMARY: This notice advises owners and operators of gas pipeline facilities and hazardous liquid pipeline facilities that the incident/accident report forms for their pipeline systems were recently revised and should be used for all incidents and accidents occurring on or after January 1, 2010.

FOR FURTHER INFORMATION CONTACT: Jamerson Pender, Information Resources Manager, 202-366-0218 or by e-mail at Jamerson.Pender@dot.gov.

SUPPLEMENTARY INFORMATION:

I. Background

The Pipeline and Hazardous Materials Safety Administration (PHMSA) requires that an operator of a covered pipeline facility file a written report within 30 days of certain adverse events, defined by regulation as either an incident or accident, 49 CFR 191.1-191.27, 195.48-195.63 (2008).¹ PHMSA further requires that those reports be submitted to the agency on one of three standardized forms: (1) PHMSA Form F 7100.1, Incident Report—Gas Distribution Pipelines, (2) PHMSA Form F 7100.2, Incident Report—Gas Transmission and Gathering Systems, and (3) PHMSA Form F 7000-1—Accident Report for Hazardous Liquid Pipeline Systems. PHMSA uses the information collected from these forms to identify trends in the occurrence of safety-related problems, to appropriately target its performance of risk-based inspections, and to assess the overall efficacy of its regulatory program.

¹ Reportable events are referred to as “incidents” for gas pipelines, 49 CFR 191.3, and “accidents” for hazardous liquid pipelines, 49 CFR 195.50. An operator may also be required to file a supplemental report in certain circumstances.

PHMSA published a Federal Register notice on September 4, 2008 (73 FR 51697) inviting public comment on a proposal to revise the incident/accident report forms. PHMSA stated that the proposed revisions were needed to make the information collected more useful to all those concerned with pipeline safety and to provide additional, and in some instances more detailed, data for use in the development and enforcement of its risk-based regulatory program. PHMSA published a subsequent Federal Register notice on October 30, 2008 (73 FR 64661) to extend the comment period to December 12, 2008.

On August 17, 2009, PHMSA published a Federal Register notice (74 FR 41496) to respond to comments, provide the public with an additional 30 days to comment on the proposed revisions to the incident/accident report forms, including the form instructions, and announce that the revised Information Collections would be submitted to the Office of Management and Budget (OMB) for approval. Several comments were received in response to the August 17, 2009, notice. PHMSA reviewed the comments and revised the forms as applicable.

PHMSA has recently received OMB approval to use the newly revised forms that are incorporated under OMB Control No. 2137-0522, “Incident and Annual Reports for Gas Pipeline Operators” and OMB Control No. 2137-0047, “Transportation of Hazardous Liquids by Pipeline: Recordkeeping and Accident Reporting.” The revised forms reflect comments that were received throughout the notice and comment periods. These forms should be used for all incidents/accidents that have occurred on or after January 1, 2010.

Advisory Bulletin (ADB-2010-01)

To: Owners and Operators of Gas Pipeline Facilities and Hazardous Liquid Pipeline Facilities.

Subject: Implementation of PHMSA`s Revised Incident/Accident Report Forms for Gas Distribution Systems, Gas Transmission and Gathering Systems, and Hazardous Liquid Systems.

Advisory: This notice advises owners and operators of gas pipeline facilities and hazardous liquid pipeline facilities that the incident/accident report forms for their pipeline systems were recently revised and should be used for all incidents/accidents occurring on or after January 1, 2010. Until PHMSA completes development of a new electronic online data entry system for the new forms (approximately March 1, 2010) operators should file hard copy forms for incidents/accidents occurring on or after January 1, 2010. Copies of the new forms and instructions are available at http://phmsa.dot.gov/pipeline/library/forms or http://opsweb.phmsa.dot.gov/. Hard copy forms should be submitted to the attention of the Information Resources Manager at the address listed in the instructions. As an alternative, completed forms that include signatures may be submitted to the Information Resources Manager by e-mail to Jamerson.Pender@dot.gov. Any questions regarding this new requirement can be directed to the Office of Pipeline Safety operator helpline at 202-366-8075.

Issued in Washington, DC on January 25, 2010.
Jeffrey D. Wiese,
Associate Administrator for Pipeline Safety.

[FR Doc. 2010-2240 Filed 2-2-10; 8:45 am]

BILLING CODE 4910-60-P